Proclamation 8827 of May 21, 2012

World Trade Week, 2012

By the President of the United States of America

A Proclamation

America has always been a Nation of doers, makers, growers, and builders. Empowered by innovative universities, pioneering entrepreneurs, and productive workers, we have met a global demand for goods and services designed and produced by Americans. During World Trade Week, we reaffirm the essential role exports play in creating jobs and growing our economy.

Two years ago, my Administration launched the National Export Initiative with the goal of doubling our exports by the end of 2014. We continue to make historic progress toward achieving this goal; last year, exports surpassed $2.1 trillion in value for the first time in our history. This kind of growth protects and creates jobs here at home, helping individuals, families, and entire communities prosper.

We are determined to do everything in our power to sustain this momentum. Last year, I signed legislation to implement three trade agreements that will make it easier for American companies, farmers, and ranchers to sell their products in Korea, Panama, and Colombia. These agreements will support tens of thousands of American jobs, generate billions of dollars in additional exports, and help level the playing field to ensure our businesses can compete and succeed in the global marketplace. To ensure competitors play by the rules, we created the Interagency Trade Enforcement Center, which will aggressively investigate unfair trade practices taking place anywhere in the world. These and other measures will help maintain our Nation’s competitive edge in a challenging and evolving global economy.

Because 95 percent of the world’s consumers live outside the United States, we must continue to look beyond our borders—from Beijing to Bogota—to open new markets for American exporters. As we work to expand economic opportunity here at home, we are reminded how three proud words, “Made in America,” will ensure our next generation inherits an economy built to last.

NOW, THEREFORE, I, BARACK OBAMA, President of the United States of America, by virtue of the authority vested in me by the Constitution and the laws of the United States, do hereby proclaim May 20 through May 26, 2012, as World Trade Week. I encourage all Americans to observe this week with events, trade shows, and educational programs that celebrate and inform Americans about the benefits of trade to our Nation and the global economy.

IN WITNESS WHEREOF, I have hereunto set my hand this twenty-first day of May, in the year of our Lord two thousand twelve, and of the Independence of the United States of America the two hundred and thirty-sixth.

[FR Doc. 2012-12880

Filed 5-23-12; 11:15 am]

Billing code 3295-F2-P